DEPARTMENT OF THE INTERIOR

Bureau of Indian Affairs

Indian Gaming

AGENCY: Bureau of Indian Affairs, Interior.

ACTION: Notice of Tribal-State Class III Gaming Compact taking effect.

SUMMARY: This notice publishes the Class III Amended and Restated Tribal-State Gaming Compact between the Shingle Springs Band of Miwok Indians and the State of California taking effect.

DATES: Effective Date: July 23, 2013.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act (IGRA) Public Law 100-497, 25 U.S.C. 2701 et seq., the Secretary of the Interior shall publish in the Federal Register notice of approved Tribal-State compacts for the purpose of engaging in Class III gaming activities on Indian lands. The Amended and Restated Compact (Compact) provides a process for restructuring the Tribe's gaming-related debts, reduces the Tribe's revenue sharing requirements and extends the term of the Compact to June 30, 2032. The Secretary took no action on the Compact within 45-days of its submission by the Tribe and State. Therefore, the Compact is considered to have been approved, but only to the extent the Compact is consistent with IGRA. See 25 U.S.C. 2710 (d)(8)(C).

Dated: July 15, 2013.
Kevin K. Washburn,
Assistant Secretary—Indian Affairs.

[FR Doc. 2013-17680 Filed 7-22-13; 8:45 am]

BILLING CODE 4310-4N-P